DEPARTMENT OF TRANSPORTATION

Federal Aviation Administration

14 CFR Part 39

[Docket No. 99-NE-33-AD; Amendment 39-14434; AD 2005-26-13]

RIN 2120-AA64

Airworthiness Directives; Turbomeca Artouste III Series Turboshaft Engines

AGENCY: Federal Aviation Administration (FAA), DOT.

ACTION: Final rule.

SUMMARY: The FAA is superseding an existing airworthiness directive (AD) for Turbomeca Artouste III series turboshaft engines. That AD currently requires smoke emission checks after every ground engine shutdown, and if necessary, additional checks and possibly removing the engine from service. That action also requires inspection of central labyrinths not previously inspected, or not replaced after the engine logged 1,500 operating hours, and, replacement if necessary. That action also requires the removal of injection wheels at a new lower life limit. This AD includes the same requirements as AD 2002-22-11, but reduces the compliance time for the initial inspection of the central labyrinth and adds repetitive inspections of the central labyrinth. This AD results from reports and analyses of in-flight engine shutdowns occurring since we issued AD 2002-22-11. We are issuing this AD to prevent injection wheel cracks and excessive central labyrinth wear, which could result in an in-flight engine shutdown and possible loss of the helicopter.

DATES: This AD becomes effective February 3, 2006. The Director of the Federal Register approved the incorporation by reference of certain publications listed in the regulations as of February 3, 2006. The Director of the Federal Register previously approved the incorporation by reference of a certain other publication as listed in the regulations as of December 13, 2002 (67 FR 68022, November 8, 2002).

ADDRESSES: You can get the service information identified in this AD from Turbomeca S.A., 40220 Tarnos, France; telephone 33 05 59 74 40 00, fax 33 05 59 74 45 15.

You may examine the AD docket at the FAA, New England Region, Office of the Regional Counsel, 12 New England Executive Park, Burlington, MA. You may examine the service information, at the FAA, New England Region, Office of the Regional Counsel, 12 New England Executive Park, Burlington, MA; or at the National Archives and Records Administration (NARA).

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: We proposed to amend 14 CFR part 39 with a proposed airworthiness directive (AD). The proposed AD applies to Turbomeca Artouste III series turboshaft engines. We published the proposed AD in the Federal Register on June 23, 2005 (70 FR 36355). That action proposed to require smoke emission checks after every ground engine shutdown, and if necessary, additional checks and possibly removing the engine from service. That action also proposed to require initial inspection of central labyrinths not previously inspected at reduced compliance times, or not replaced after the engine logged 1,500 operating hours, and, replacement if necessary. That action also proposed to add repetitive inspections of the central labyrinth. Additionally, that action proposed to require the removal of the injection wheels at a new lower life limit.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We have carefully reviewed the available data, and determined that air safety and the public interest require adopting the AD as proposed.

Costs of Compliance

About 1,062 Turbomeca Artouste III engines of the affected design are in the worldwide fleet. We estimate that 59 engines installed on helicopters of U.S. registry will be affected by this AD. We also estimate that it will take about 31 work hours per engine to perform the required actions, and that the average labor rate is $65 per work hour. Required parts will cost about $8,100 per engine. Based on these figures, we estimate the AD will cost U.S. operators $596,785.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 99-NE-33-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12937 (67 FR 68022, November 8, 2002) and by adding a new airworthiness directive, to read as follows:

2005-26-13 Turbomeca: Amendment 39-14434. Docket No. 99-NE-33-AD.

Effective Date

(a) This AD becomes effective February 3, 2006.

Affected ADs

(b) This AD supersedes AD 2002-22-11, Amendment 39-12937.

Applicability

(c) This AD applies to Turbomeca Artouste III B, B1, and D series turboshaft engines with injection wheels part numbers (P/Ns) 218.25.700.0, 218.25.704.0, 243.25.709.0, 243.25.713.0, 0.218.27.705.0, 0.218.27.709.0, and 0.218.27.713.0. These engines are installed on, but not limited to Eurocopter SA 315 LAMA and SA 316 Alouette III helicopters.

Unsafe Condition

(d) This AD results from reports and analyses of in-flight engine shutdowns occurring since we issued AD 2002-22-11. The actions specified in this AD are intended to prevent injection wheel cracks and excessive central labyrinth wear, which could result in an in-flight engine shutdown and possible loss of the helicopter.

Compliance

(e) Compliance with this AD is required as indicated, unless already done.

Smoke Check

(f) Following every engine ground shutdown, do the following using Turbomeca Artouste III Service Bulletin (SB) No. 218 72 0099, dated September 14, 1998:

(1) After every flight, check for smoke emissions through the exhaust pipe, air intake, or turbine casing drain during rundown and after every engine shutdown. If a smoke emission has been noticed, check the fuel system before the next flight to identify the origin of the smoke emissions.

(2) If smoke is not detected, no action is required until the next engine ground shutdown.

(3) If smoke is detected, inspect for fuel flow in accordance with paragraph 2.B.(1) and 2.B.(2) of the referenced SB.

(i) If fuel flow is not detected, prior to further flight, remove the engine from service and replace with a serviceable engine.

(ii) If fuel flow is detected, remove the electric fuel cock from service and replace with a serviceable part in accordance with section 2.B.(4) and 2.B.(5) of the referenced SB.

(iii) Before entry into service, perform an engine ground run and check the fuel system again for smoke emissions through the exhaust pipe, air intake, or turbine casing drain during engine rundown and after shut-down; if smoke emissions still remain after replacement of the electric fuel cock, prior to further flight, remove the engine from service and replace with a serviceable engine.

(g) For the purpose of this AD, a serviceable engine is defined as an engine that does not exhibit smoke emissions.

Central Labyrinth Inspection

(h) Perform checks and inspections of the central labyrinth and, if necessary, replace the central labyrinth, using paragraph 2 of Turbomeca Alert Service Bulletin (ASB) No. A218 72 0100, Update 2, dated January 23, 2004, and the following Table 1:

Table 1.—Inspection Schedule
Initial inspection | Repetitive inspection
Prior to 1,750 hours Time-Since-New or 1,750 hours Time-Since-Last Inspection (TSLI), or 50 hours from the effective date of this AD, whichever occurs later | 1,750 hours TSLI.

Alternative Methods of Compliance

(i) The Manager, Engine Certification Office, has the authority to approve alternative methods of compliance for this AD if requested using the procedures found in 14 CFR 39.19.

Material Incorporated by Reference

(j) The checks, inspections, and replacements must be done in accordance with the following Turbomeca Artouste III alert service bulletins (ASBs):

Document No. | Pages | Revision | Date
ASB A218 72 0099 | All | 1 | June 6, 2001.
Total pages: 5
ASB A218 72 0100 | All | 2 | Jan. 23, 2004.
Total pages: 17

The Director of the Federal Register approved the incorporation by reference of Alert Service Bulletin No. A218 72 0100, Update 2, dated January 23, 2004, in accordance with 5 U.S.C. 552(a) and 1 CFR part 51. The Director of the Federal Register approved the incorporation by reference of Turbomeca Alert Service Bulletin No. A218 72 0099, Update 1, dated June 6, 2001, as of December 13, 2002 (67 FR 68022, November 8, 2002). You can get a copy from Turbomeca S.A., 40220 Tarnos, France; telephone 33 05 59 74 40 00, fax 33 05 59 74 45 15. You can review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Related Information

(k) DGAC airworthiness directive F-2004-016, dated February 4, 2004, also addresses the subject of this AD.

Issued in Burlington, Massachusetts, on December 15, 2005.
Peter A. White,
Acting Manager, Engine and Propeller Directorate, Aircraft Certification Service.

[FR Doc. 05-24515 Filed 12-29-05; 8:45 am]

BILLING CODE 4910-13-P